DEPARTMENT OF THE INTERIOR

Bureau of Land Management

Notice of Availability of a Draft Recreation Area Management Plan for the Imperial Sand Dunes Recreation Area and Associated Draft Amendment to the California Desert Conservation Area Plan and Draft Environmental Impact Statement

AGENCY: Bureau of Land Management, Interior.

ACTION: Notice of Availability of a Draft Recreation Area Management Plan (DRAMP) for the Imperial Sand Dunes Recreation Area (ISDRA) and associated Draft Amendment to the California Desert Conservation Area (CDCA) Plan and Draft Environmental Impact Statement (DEIS).

SUMMARY: The DRAMP and Draft Amendment to the CDCA Plan provide direction and guidance for the management of public lands and resources of the ISDRA, including goals and management objectives, management prescriptions in accordance with the Federal Land Policy and Management Act (FLPMA) of 1976, management direction specific to discrete areas within the ISDRA, and monitoring and evaluation requirements. The DEIS evaluates the DRAMP and alternatives to the DRAMP, including necessary amendments to the CDCA Plan.

DATES: Written comments on the DRAMP, Draft Amendment to the CDCA Plan and DEIS will be accepted until June 28, 2002. Six (6) public meetings will be held between 7-10 p.m.

The dates and locations of the public meetings are as follows:

April 9, 2002, El Centro, CA, City Council Chambers, 1275 Main Street, El Centro, CA.

April 11, 2002, Long Beach, CA, The Grand, 4101 East Willow Street, Long Beach, CA.

April 15, 2002, Phoenix, AZ, Phoenix College, 1202 West Thomas Road, Phoenix, AZ.

April 18, 2002, Brawley, CA, Brawley City Council, 225 A Street, Brawley, CA.

April 23, 2002, Yuma, AZ, Yuma Civic and Convention Center, 1440 W Desert Hills Drive, Yuma, AZ.

April 25, 2002, San Diego, CA, Marriott Mission Valley, 8757 Rio San Diego Drive, San Diego, CA.

ADDRESSES: Comments should be sent to Greg Thomsen, Field Manager, El Centro Field Office, California Desert District, Bureau of Land Management, 1661 South 4th Street, El Centro, CA 92243. Comments also may be sent by e-mail to: rtrost@ca.blm.gov. Comments on the DRAMP, Draft Amendment to the CDCA Plan and DEIS, including names and addresses of respondents, will be available for public review at the El Centro Field Office during normal working hours (7:45 a.m to 4:15 p.m., except holidays), and may be published as part of the Final Environmental Impact Statement and Amendment to the CDCA Plan. Individuals may request confidentiality. If you wish to withhold your name or address from public review or from disclosure under the Freedom of Information Act, you must state this prominently at the beginning of your comment. Such requests will be honored to the extent allowed by law. All submissions from organizations or businesses will be made available for public inspection in their entirety. The planning documents and direct supporting record for the analysis and DRAMP will be available for inspection at the El Centro Field Office during normal working hours. Some important historical records may also be posted on the BLM Internet site to facilitate public access.

FOR FURTHER INFORMATION CONTACT: Roxie Trost, Bureau of Land Management, 1661 South 4th Street, El Centro, CA 92243; (760) 337-4420.

SUPPLEMENTARY INFORMATION: The ISDRA project area, trending generally for 40 miles from the southeast to northwest, comprises approximately 208,284 acres of public lands bounded approximately to the west by the Old Coachella Canal, to the east by the Union Pacific Railroad, to the North by Mammoth Wash, and to the south by Interstate 8 and the California/Mexico border. The primary activities conducted in the ISDRA include recreational camping and use of Off-Highway Vehicles. Issues addressed in the DRAMP and DEIS include: recreation resources; biological resources (wildlife and botany); cultural resources and paleontology; land ownership and management; geology and soils; socioeconomics; and public health and safety. The DEIS also addresses water; noise; mineral resources; hazardous materials; solid waste; visual resources; energy; access; climate; topography; and air quality.

Greg Thomsen,
Field Manager, El Centro Field Office.

[FR Doc. 02-6977 Filed 3-21-02; 8:45 am]

BILLING CODE 4310-40-P